DEPARTMENT OF COMMERCE

International Trade Administration

Subsea & Onshore Technology Trade Mission to Rio de Janeiro, Brazil October 19-21, 2016; Amendment

AGENCY: International Trade Administration, U.S. Department of Commerce.

ACTION: Notice.

SUMMARY: The United States Department of Commerce, International Trade Administration, is amending the Notice published at 80 FR 76657 (December 10, 2015), regarding the Subsea & Onshore Technology Trade Mission to Rio de Janeiro, Brazil October 19-21, 2016, to modify the selection process of applicants on a rolling basis starting immediately and until at least 10 participants are selected, with a maximum number of 15 participants. Applications received after July 25, 2016, will be considered only if space and scheduling constrains permit and participation fees must be paid by August 9, 2016.

SUPPLEMENTARY INFORMATION: Amendments to revise the selection process.

Background

It has been determined that the selection process of companies interested in participating in the mission will be vetted on a rolling basis. All applications will be evaluated on their ability to meet certain conditions and best satisfy the selection criteria outlined under the conditions of participation clause. Applications for this Mission will be accepted through July 25, 2016 (and after that date if space remains and scheduling constraints permit). Interested U.S. companies and trade associations/organizations providing oil and gas equipment, technology, or services as well as U.S. companies seeking to enter the Brazilian market for the first time are encouraged to apply.

Contact Information

Ethel M. Azueta Glen, International Trade Specialist, Trade Missions, U.S. Department of Commerce, Washington, DC 20230, Tel: 202-482-5388, Fax: 202-482-9000, Ethel.Glen@trade.gov.

Frank Spector,
Director, Trade Missions Program.

[FR Doc. 2016-15481 Filed 6-29-16; 8:45 am]

BILLING CODE 3510-DR-P